SECURITIES AND EXCHANGE COMMISSION

[Release No. 34-98208]

Notice of Intention To Cancel Registration of Certain Municipal Advisors Pursuant to Section 15b(c)(3) of the Securities Exchange Act of 1934

August 23, 2023.

Notice is given that the Securities and Exchange Commission (the “Commission”) intends to issue an order or orders, pursuant to section 15B(c)(3) of the Securities Exchange Act of 1934 (the “Act”), cancelling the registrations of the municipal advisors whose names appear in the attached Appendix (hereinafter referred to as the “registrants”).

Section 15B(c)(3) of the Act provides, in pertinent part, that if the Commission finds that any municipal advisor registered under section 15B is no longer in existence or has ceased to do business as a municipal advisor, the Commission, by order, shall cancel the registration of such municipal advisor.

The Commission finds that each registrant listed in the attached Appendix:

(i) has not filed any municipal advisor form submissions with the Commission through the Commission's Electronic Data Gathering and Retrieval (“EDGAR”) system since February 2022 (including but not limited to the annual amendments (form MA-A) required by 17 CFR 240.15Ba1-5(a)(1)); and/or

(ii) based on information available from the Municipal Securities Rulemaking Board (the “MSRB”), (a) is not registered as a municipal advisor with the MSRB under MSRB Rule A-12(a) and/or (b) does not have an associated person who is qualified as a municipal advisor representative under MSRB Rule G-3(d) and for whom there is a Form MA-I required by 17 CFR 240.15Ba1-2(b) available on EDGAR, and/or (c) has not, since February 2022, filed with the MSRB any Form A-12 annual affirmation as required by MSRB Rule A-12(k); and/or withdrew its registration from the MSRB without first withdrawing its registration from the Commission.

Accordingly, the Commission finds that each of the registrants listed in the attached Appendix either is no longer in existence or has ceased to do business as a municipal advisor.

Notice is also given that any interested person may, by September 25, 2023 at 5:30 p.m. Eastern Time, submit to the Commission in writing a request for a hearing on the cancellation of the registration of any registrant listed in the attached Appendix, accompanied by a statement as to the nature of such person's interest, the reason for such request, and the issues, if any, of fact or law proposed to be controverted, and such person may request to be notified if the Commission should order a hearing thereon. Any such communication should be addressed to the Commission's Secretary at the address below. All comments or requests received will be posted without change; the Commission does not edit personal identifying information from submissions. You should submit only information that you wish to make available publicly.

At any time after September 25, 2023, the Commission may issue an order or orders cancelling the registrations of any or all of the registrants listed in the attached Appendix, upon the basis of the information stated above, unless an order or orders for a hearing on the cancellation shall be issued upon request or upon the Commission's own motion. Persons who requested a hearing, or to be advised as to whether a hearing is ordered, will receive any notices and orders issued in this matter, including the date of the hearing (if ordered) and any postponements thereof. Any registrant whose registration is cancelled under delegated authority may appeal that decision directly to the Commission in accordance with Rules 430 and 431 of the Commission's rules of practice (17 CFR 201.430 and 431).

ADDRESSES: Secretary, U.S. Securities and Exchange Commission, 100 F Street NE, Washington, DC 20549.

FOR FURTHER INFORMATION CONTACT: Mark Elion, Senior Counsel, Office of Municipal Securities, 100 F Street NE, Washington, DC 20549, or at (202) 551-5680.

For the Commission, by the Office of Municipal Securities, pursuant to delegated authority.¹
¹ 17 CFR 200.30-3a(a)(1)(ii).
Sherry R. Haywood,
Assistant Secretary.

Appendix

Registrant name | SEC ID No.
Betnun Nathan S | 867-02495
Christen Group, Inc | 867-02467
Southern Cross Financial Group LLC | 867-02544
TLHocking & Associates LLC | 867-01054
OCONNOR & Co SECURITIES, INC | 867-01245
Capital Alaska LLC | 867-02604
Fray Municipal Securities | 867-02064
Massena Associates LLC | 867-02569
SUMMERS, CARROLL, WHISLER LLC | 867-01938

[FR Doc. 2023-18552 Filed 8-28-23; 8:45 am]

BILLING CODE 8011-01-P